GOVERNMENT ACCOUNTABILITY OFFICE

Appointments to the Health Information Technology (HIT) Policy Committee

AGENCY: Government Accountability Office (GAO).

ACTION: Notice of appointments.

SUMMARY: The American Recovery and Reinvestment Act requires the Comptroller General of the United States to appoint 13 of 20 members to the HIT Policy Committee. As of April 2015, new appointees to the HIT Policy Committee are Kathleen Blake, MD, MPH, an expert in health care quality measurement and reporting; Donna Cryer, JD, an advocate for patients or consumers; and Brent Snyder, Esq., a representative of health care providers.

DATES: Appointments are effective as of April 2015.

ADDRESSES: GAO: 441 G Street NW., Washington, DC 20548.

FOR MORE INFORMATION CONTACT: GAO: Office of Public Affairs, (202) 512-4800.

SUPPLEMENTARY INFORMATION:

More information about the new appointees is provided below. Kathleen Blake, MD, MPH, is Vice President for Performance Improvement at the American Medical Association (AMA) and resides in Chicago, Illinois, and Santa Fe, New Mexico. She was appointed to fill the health care quality measurement and reporting opening.

Donna Cryer, JD, is Founder and President of the Global Liver Institute in Washington, DC, which facilitates collaboration among patient advocates, policymakers, regulators, health systems, and payers to solve challenges to advancing liver health and treating liver diseases. She was appointed to fill the patients or consumers advocate opening.

Brent Snyder, Esq. is Chief Information Officer at Adventist Health System (AHS) and lives in Springfield, Tennessee. He was appointed to fill the representative of health care providers opening.

42 U.S.C. 300jj-12.

Gene L. Dodaro,
Comptroller General of the United States.

[FR Doc. 2015-11957 Filed 5-19-15; 8:45 am]

BILLING CODE 1610-02-M